ENVIRONMENTAL PROTECTION AGENCY

[ER-FRL-6664-9]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167.

An explanation of the ratings assigned to draft environmental impact statements (EISs) was published in the Federal Register dated April 1, 2005 (70 FR 16815).

Draft EISs

EIS No. 20050005, ERP No. D-BLM-J65436-UT, Vernal Field Office Resource Management Plan, To Revise and Integrate the Book Cliff and Diamond Mountain Resource Management Plan, Daggett, Duchesne, Uintah and Grand Counties, UT.

Summary: EPA expressed environmental concerns about potential adverse impacts to air quality, and recommended that a revised cumulative air quality analysis, including other reasonably foreseeable projects, especially on Uintah and Ouray Reservations be completed. Rating EC2.

EIS No. 20050044, ERP No. D-BLM-J02047-WY, Jonah Infill Drilling Project, Propose to Expand Development of Natural Gas Drilling, Sublette County, WY.

Summary: EPA expressed concerns because decreased well spacing will result in significant impacts to: vegetation from removal or compaction; surface water quality from soil erosion; wildlife from habitat destruction; and fragmentation without providing specific approaches to maintain ecosystem viability. In addition, there is a potential for wetlands impacts from surface activities located in playas. EPA recommends phased development based on geographic considerations and potential impacts and identification of mitigation for significant impacts. However, EPA's rating of the proposed action/EIS had been deferred until it has the opportunity to review supplemental air quality information that BLM has committed to develop and solicit comment on in advance of the release of the Final EIS.

EIS No. 20050059, ERP No. D-NPS-D40329-VA, Manassas National Battlefield Park Bypass Study, From U.S.-29 East of Park Boundary and VA-234 South of Park Boundary to U.S. 29 West of Park Boundary and VA-234 North of Park Boundary, US Army COE Section 404 Permit, Prince William and Fairfax Counties, VA.

Summary: EPA expressed environmental concerns about potential impacts to, wetlands, streams, riparian areas, resource protection areas and Section 4(f) protected parkland. EPA requested that the Final EIS address cumulative impacts to aquatic and historic resources. Rating EC2.

EIS No. 20050144, ERP No. D-FHW-F40430-IN, US-31 Kokomo Corridor Project, Transportation Improvement between IN-26 and U.S. 35 Northern Junction, City of Kokomo and Center Township, Howard and Tipton Counties, IN.

Summary: EPA has environmental concerns due to potential adverse impacts to wetlands, streams/water quality, drinking water supplies, upland forest and wildlife habitat. Rating EC2.

EIS No. 20050149, ERP No. D-FHW-F40432-WI, U.S. 41 Highway Corridor Project, Transportation Improvement between the Cities of Oconto and Peshtigo, Funding, Marinette and Oconto Counties, WI.

Summary: EPA expressed environmental concerns related to riffle-pool structures, wetland functional assessment, and compensatory wetland mitigation. EPA requested the final EIS include additional information on these issues. Rating EC2.

Final EISs

EIS No. 20050083, ERP No. F-NPS-D65030-VA, Petersburg National Battlefield General Management Plan, Implementation, Petersburg, VA.

Summary: EPA does not object to the Preferred Alternative (D) which increases protections for water quality and natural resources and proposes to expand the park boundary by 7,238 acres.

EIS No. 20050193, ERP No. F-BIA-K65270-NV, Weber Dam Repair and Modification Project, Propose to Repair and Modify Dam, Walker River Paiute Tribe, Right-of-Way Grant and U.S. Army COE Section 404 Permit, Walker River Valley, Lyon and Mineral Counties, NV.

Summary: No formal comment letter was sent to the preparing agency.

EIS No. 20050230, ERP No. F-FRC-G03026-00, Golden Pass Liquefied Natural Gas (LNG) Import Terminal and Natural Gas Pipeline Facilities, Construction and Operation, Jefferson, Orange, Newton Counties, TX and Calcasieu Parish, LA.

Summary: EPA has no objection to the proposed action.

EIS No. 20050124, ERP No. FS-GSA-D81027-MD, U.S. Food and Administration (FDA) Consolidation, Updated and New Information, Constructing a New Eastern Access Road and over Paint Branch, Construct Additional Facilities to Support Expand Program, Relocating the Day Care Center, Federal Research Center at White Oak, Silver Spring, Montgomery County, MD.

Summary: EPA has no objection to the proposed action.

Dated: June 28, 2005.
Robert W. Hargrove,
Director, NEPA Compliance Division, Office of Federal Activities.

[FR Doc. 05-13045 Filed 6-30-05; 8:45 am]

BILLING CODE 6560-50-P